DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel, Gene Therapy for Alzheimer's Disease.

Date: March 4-5, 2002.

Time: 6:30 a.m. to 3 p.m.

Agenda: To review and evaluate grant applications.

Place: The Lodge at Torrey Pines, 11480 North Torrey Pines Road, La Jolla, CA 92037.

Contact Person: Louise L. Hsu, PhD, The Bethesda Gateway Building, 7201 Wisconsin Avenue/Suite 2C212, Bethesda, MD 20892. (301) 496-9666.

This notice is being published less than 15 days prior to the meeting due to the timing limitations imposed by the review and funding cycle.

Name of Committee: National Institute on Aging Special Emphasis Panel, Age, Race, and Ethnicity in Prostate Cancer.

Date: March 19-20, 2002.

Time: 6 a.m. to 5 p.m.

Agenda: To review and evaluate grant applications.

Place: Residence Inn, Conference Room, 7335 Wisconsin Avenue, Bethesda, MD 20814.

Contact Person: Arthur D. Schaerdel, DVM, The Bethesda Gateway Building, 7201 Wisconsin Avenue/Suite 2C212, Bethesda, MD 20892. (301) 496-9666.

Name of Committee: National Institute on Aging Special Emphasis Panel.

Date: March 25-26, 2002.

Time: 6 a.m. to 5 p.m.

Agenda: To review and evaluate grant applications.

Place: Marriott Pooks Hill, 5151 Pooks Hill Road, Bethesda, MD 20814.

Contact Person: Louise L. Hsu, PhD, The Bethesda Gateway Building, 7201 Wisconsin Avenue/Suite 2C212, Bethesda, MD 20892. (301) 496-9666.

Name of Committee: National Institute on Aging Special Emphasis Panel, Aging Auditory System: Presbycusis and its Neural Bases.

Date: March 25-26, 2002.

Time: 6 a.m. to 5 p.m.

Agenda: To review and evaluate grant applications.

Place: Courtyard By Marriott Brighton, 33 Corporate Woods, Rochester, NY 14623.

Contact Person: Ramesh Vemuri, PhD, National Institute on Aging, The Bethesda Gateway Building, 7201 Wisconsin Avenue, Suite 2C212, Bethesda, MD 20892. (301) 496-9666.

Name of Committee: National Institute on Aging Special Emphasis Panel, Lipid Oxidation Products in Alzheimer's Disease.

Date: March 28-29, 2002.

Time: 6 a.m. to 5 p.m.

Agenda: To review and evaluate grant applications.

Place: Lowes Vanderbilt Hotel, 2100 West End Ave., Nashville, TN 37203.

Contact Person: Arthur D. Schaerdel, DVM, The Bethesda Gateway Building, 7201 Wisconsin Avenue/Suite 2C212, Bethesda, MD 20892. (301) 496-9666.

In the interest of security, NIH has instituted stringent procedures for entrance into the building by non-government employees. Persons without a government I.D. will need to show a photo I.D. and sign-in at the security desk upon entering the building.

(Catalogue of Federal Domestic Assistance Program No. 93.866, Aging Research, National Institutes of Health, HHS)

Dated: February 28, 2002.
LaVerne Y. Stringfield,
Director, Office of Federal Advisory Committee Policy.

[FR Doc. 02-5502 Filed 3-6-02; 8:45 am]

BILLING CODE 4140-01-M